DEPARTMENT OF JUSTICE

Drug Enforcement Administration

Manufacturer of Controlled Substances, Notice of Registration, National Center for Natural Products Research-NIDA; Correction

In Federal Register (FR DOC) 2013-09325 on page 23597, in the issue of Friday, April 19, 2013, make the following correction:

On page 23597, in the first column, in the table, the last cells, “II” should read “I”.

Dated: June 7, 2013.
Joseph T. Rannazzisi,
Deputy Assistant Administrator, Office of Diversion Control, Drug Enforcement Administration.

[FR Doc. 2013-14442 Filed 6-17-13; 8:45 am]

BILLING CODE 4410-09-P